DEPARTMENT OF AGRICULTURE

Rural Business-Cooperative Service

7 CFR Part 4284

[Docket No. RBS-21-BUSINESS-0039]

Rural Innovation Stronger Economy (RISE) Grant Program for FY 2022; Correction

AGENCY: Rural Business-Cooperative Service, Department of Agriculture (USDA).

ACTION: Notice of Solicitation of Applications; correction.

SUMMARY: The Rural Business-Cooperative Service (Agency), a Rural Development agency of the United States Department of Agriculture (USDA), published a Notice of Solicitation of Applications (NOSA) in the Federal Register on December 20, 2021 for the Rural Innovation Stronger Economy (RISE) grant program. Following publication of the NOSA, the Agency found that corrections due to error, omissions or need for clarity were necessary. This notice corrects those errors to clarify the time applications are due and to provide the correct regulation references.

DATES: Effective February 14, 2022.

FOR FURTHER INFORMATION CONTACT: For questions on this document contact Will Dodson, Program Management Division, Rural Business-Cooperative Service, United States Department of Agriculture, 1400 Independence Avenue SW, Mail Stop 3326, Room 5160-South, Washington, DC 20250-3226, (202) 720-1400 or email: SM.USDA-RD.RISE@usda.gov.

SUPPLEMENTARY INFORMATION:

Corrections

In the Federal Register of December 20, 2021, in FR Doc. 2021-27447 (86 FR 71868), make the following corrections:

(1) In the first column of page 71869, under Overview, amend the language in Dates to read:

Dates: Electronic applications must be received and accepted by https://www.grants.gov no later than 11:59 p.m. Eastern Standard Time, April 19, 2022, or they will not be considered for funding.

(2) In the first column of page 71869, under Overview, amend the language in the first sentence of the first full paragraph to read:

Potential applicants may submit a concept proposal for review by the Agency to SM.USDA-RD.RISE@usda.gov no later than 11:59 p.m. Eastern Standard Time, February 18, 2022, in compliance with 7 CFR 4284.1115(a).

(3) In the third column of page 71869, under Eligible Applicants, amend the language in the first paragraph to read:

Applicants must meet all the following eligibility requirements. Applications that fail to meet any of these requirements by the application deadline will be deemed ineligible and will not be evaluated further. To be considered an eligible applicant, you must be a rural jobs accelerator partnership formed after December 20, 2018, and meet the eligibility criteria found in 7 CFR 4284.1112 to apply for this program. Individuals and individual entities are not an eligible applicant for the RISE program.

(4) In the first column of page 71871, under (d) Multiple Application Eligibility amend the first sentence to read:

Only one application can be submitted per applicant, who is defined as a lead applicant as found in 7 CFR 4284.1112(b).

(5) In the first column of page 71872, under 4. Submission Date and Time amend the first paragraph, first sentence to read:

Explanation of Deadline: Completed applications must be submitted electronically through Grants.gov no later than 11:59 p.m. Eastern Standard Time, April 19, 2022, to be eligible for grant funding.

(6) In the first column of page 71872, under 4. Submission Date and Time amend the second paragraph, first sentence to read:

Potential applicants may electronically submit a concept proposal for review by the Agency to: SM.RISE-RD.RISE@usda.gov no later than 11:59 p.m. Eastern Standard Time, February 18, 2022, in compliance with 7 CFR 4284.1115(a) and as stated in Section D, 2(b) of this Notice.

Karama Neal,
Administrator, Rural Business-Cooperative Service.

[FR Doc. 2022-03034 Filed 2-11-22; 8:45 am]

BILLING CODE 3410-XY-P